DEPARTMENT OF COMMERCE

National Oceanic and Atmospheric Administration

RIN 0648-XD622

Caribbean Fishery Management Council; Public Meeting

AGENCY: National Marine Fisheries Service (NMFS), National Oceanic and Atmospheric Administration (NOAA), Commerce.

ACTION: Notice of a public meeting.

SUMMARY: The Caribbean Fishery Management Council (Council) will hold its 151st meeting.

DATES: The meeting will be held on December 9-10, 2014. The Council will convene on Tuesday, December 9, 2014, from 9 a.m. to 6 p.m., and will reconvene on Wednesday, December 10, 2014, from 9 a.m. to 5 p.m.

ADDRESSES: The meeting will be held at the Marriott Resort Frenchman's Reef & Morning Star, #4 Estate Bakkeroe, St. Thomas, U.S.V.I. 00802.

FOR FURTHER INFORMATION CONTACT: Caribbean Fishery Management Council, 270 Muñoz Rivera Avenue, Suite 401, San Juan, Puerto Rico 00918; telephone: (787) 766-5926.

SUPPLEMENTARY INFORMATION: The Council will hold its 151st regular Council Meeting to discuss the items contained in the following agenda:

December 9, 2014, 9 a.m.-6 p.m.

• Call to Order

• Adoption of Agenda

• Consideration of 150th Council Meeting Verbatim Transcriptions

• Executive Director's Report

• Abril/Bajo/Tourmaline Reconsideration of Closure Period, Guidance on Next Steps from Council

• SSC Outcomes from November one-day Webinar Meeting, Including Status of Species Selection Criteria Table

• ACL Overages/AM Application/Enhanced Reporting Status

• Timing of Closures, Focus on Development of Options Paper and Scheduling Additional Scoping Hearings

• Federal Permits Scoping Document, Schedule Scoping Meetings

• Red Hind White Paper

Public Comment Period

(5-minutes presentations)

5:15 p.m.-6 p.m.

• Administrative Matters

—Budget Update FY 2014/15

—SOPPs Approval for Submission to NOAA Fisheries

—SSC/OEAP Memberships

—Closed Session to Discuss Membership of Island-Based District Advisory Panels (DAPs) and Consideration of Terms of Reference for Winter 2015 DAP Meetings

December 10, 2014, 9 a.m.-5 p.m.

• Point 97 Presentation on Electronic Reporting Project

• Outreach and Education Report—Dr. Alida Ortíz

• Petition Shark Quota for Artisanal US Caribbean Fishers—Marcos Hanke

• SEDAR Developments and Planning—Bonnie Ponwith

• Sea Cucumbers and Sea Urchins Report from PR DNER and Consideration of need to Close Harvest in Federal Waters in Support of Implementing Harvest Closure in State Waters.

• Enforcement Issues:

—Puerto Rico-DNER

—U.S. Virgin Islands-DPNR

—U.S. Coast Guard

—NMFS/NOAA

• Meetings Attended by Council Members and Staff

Public Comment Period

(5-minute presentations)

• Other Business

• Next Council Meeting

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: November 18, 2014.
Tracey L. Thompson,
Acting Deputy Director, Office of Sustainable Fisheries, National Marine Fisheries Service.

[FR Doc. 2014-27621 Filed 11-20-14; 8:45 am]

BILLING CODE 3510-22-P